Title 3—

The President

Proclamation 7304 of May 5, 2000

Global Science and Technology Week, 2000

By the President of the United States of America

A Proclamation

At its core, science is an international endeavor. The fundamental workings of nature—the function of a gene, the quantum behavior of matter and energy, the chemistry of the atmosphere—are not the sole province of any one nation. At the same time, many of the greatest challenges our Nation faces are of global concern. Issues such as poverty, disease, pollution, and sustainable energy production transcend national boundaries, and their solutions require international collaboration. With the advent of the Internet and the revolution in communications technology, such cooperation is more achievable—and more productive—than ever before.

In recent years, America has participated in numerous scientific endeavors that illustrate the feasibility and the benefits of international cooperation. For example, as one of 16 participating nations, we are advancing the frontiers of space exploration through a partnership to build the International Space Station. Working together in the unique environment of space, we will strive to solve crucial problems in medicine and ecology and lay the foundations for developing space-based commerce.

We are also participating in an international scientific effort to map and sequence all human chromosomes. With the completion of the Human Genome Project, we will have unprecedented knowledge about the cause of such genetic diseases as muscular dystrophy and Alzheimer's and greater hope of preventing them in the future.

Since the 1980s, under the auspices of the United Nations Environment Program and the World Meteorological Organization, American scientists have been working with hundreds of scientists around the world to identify, understand, and raise public awareness about the threat to our planet's ozone layer. Our collaborative efforts have led to an international agreement to eliminate nearly all production of offending chemicals in industrialized countries and to work to reduce their production in developing countries.

Our Nation continues to reap rewards from these and other important international scientific efforts. We benefit enormously from the large and growing international scientific community within our borders. For generations, the world's brightest scientists have come to our country to study and conduct research, and many choose to remain here permanently. From Albert Einstein to four of this year's Nobel laureates, foreign-born scientists in America have made extraordinary contributions to science and technology and have played a vital role in the unprecedented prosperity and economic growth we have experienced in recent years.

The great French scientist Louis Pasteur noted more than a century ago that “science knows no country, because knowledge belongs to humanity, and is the torch which illuminates the world.” During Global Science and Technology Week, America joins the world community in celebrating the immeasurable benefits we have enjoyed from international scientific collaboration and looks forward to a future of even greater achievements.

NOW, THEREFORE, I, WILLIAM J. CLINTON, President of the United States of America, by virtue of the authority vested in me by the Constitution and laws of the United States, do hereby proclaim May 7 to May 13, 2000, as Global Science and Technology Week. I call upon students, educators, and all the people of the United States to learn more about the international nature of science and technology and the contributions that international scientists have made to our Nation's progress and prosperity.

IN WITNESS WHEREOF, I have hereunto set my hand this fifth day of May, in the year of our Lord two thousand, and of the Independence of the United States of America the two hundred and twenty-fourth.

wj

[FR Doc. 00-12004

Filed 5-10-00; 8:45 am]

Billing code 3195-01-P